DEPARTMENT OF COMMERCE

International Trade Administration

[A-201-845]

Agreement Suspending the Antidumping Duty Investigation on Sugar From Mexico: Final Results of the 2022-2023 Administrative Review

AGENCY: Enforcement and Compliance, International Trade Administration, Department of Commerce.

SUMMARY: The U.S. Department of Commerce (Commerce) determines that the Agreement Suspending the Antidumping Duty Investigation on Sugar from Mexico, as amended (AD Agreement) met the statutory requirements during the period of review (POR) from December 1, 2022, through November 30, 2023. Commerce also determines that the respondents selected for individual examination, Azucarera San Jose De Abajo S.A. (San Jose) and Santa Rosalia de la Chontalpa, S.A. de C.V., and its affiliates (Santa Rosalia; collectively, Grupo BSM), were generally in compliance with the terms of the AD Agreement during the POR. However, we determine that Grupo BSM did not comply with the requirement to eliminate at least 85 percent of the dumping found in the investigation during the POR. Furthermore, we consider the respondents' noncompliant behavior to be serious and in need of remediation, and we will implement certain steps to address the noncompliance.

DATES: Applicable December 19, 2025.

FOR FURTHER INFORMATION CONTACT: Sally C. Gannon or Jill Buckles, Enforcement and Compliance, International Trade Administration, U.S. Department of Commerce, 1401 Constitution Avenue NW, Washington, DC 20230; telephone: (202) 482-0162 or (202) 482-6230, respectively.

SUPPLEMENTARY INFORMATION:

Background

On April 7, 2025, Commerce published the Preliminary Results of this administrative review.¹

¹ See Agreement Suspending the Antidumping Duty Investigation on Sugar From Mexico: Preliminary Results of the 2022-2023 Administrative Review, 90 FR 15434 (April 11, 2025) (Preliminary Results).

Pursuant to section 782(i) of the Tariff Act of 1930, as amended (the Act), and 19 CFR 351.307(b), we conducted verification of the questionnaire responses of Grupo BSM from June 23, 2025, through June 26, 2025.²

² See Memorandum, “Verification of the Responses of Santa Rosalia and its Affiliates in the Administrative Review of the Agreement Suspending the Antidumping Duty Investigation on Sugar from Mexico,” dated September 8, 2025.

On September 17, 2025, the American Sugar Coalition and its members (collectively, petitioners) filed a case brief,³ as did one respondent, Grupo BSM.⁴ On September 22, 2025, petitioners filed a rebuttal brief,⁵ while Grupo BSM and San Jose issued a joint rebuttal brief.⁶

³ See Petitioners' Letter, “Case Brief on Behalf of the American Sugar Coalition,” dated September 17, 2025.

⁴ See Grupo BSM's Letter, “Case Brief,” dated September 17, 2025.

⁵ See Petitioners' Letter, “Rebuttal Brief on Behalf of the America Sugar Coalition,” dated September 22, 2025.

⁶ See Respondents' Letter, “Rebuttal Brief,” dated September 22, 2025.

Due to the lapse in appropriations and Federal Government shutdown, on November 14, 2025, Commerce tolled all deadlines in administrative proceedings by 47 days.⁷ Additionally, due to a backlog of documents that were electronically filed via Enforcement and Compliance's Antidumping and Countervailing Duty Centralized Electronic Service System (ACCESS) during the Federal Government shutdown, on November 24, 2025, Commerce tolled all deadlines in administrative proceedings by an additional 21 days.⁸ Accordingly, the deadline for these final results is now December 15, 2025.

⁷ See Memorandum, “Deadlines Affected by the Shutdown of the Federal Government,” dated November 14, 2025.

⁸ See Memorandum, “Tolling of all Case Deadlines,” dated November 24, 2025.

Scope of the AD Agreement

The product covered by this AD Agreement is raw and refined sugar of all polarimeter readings derived from sugar cane or sugar beets. Merchandise covered by this AD Agreement is typically imported under the following headings of the HTSUS: 1701.12.1000, 1701.12.5000, 1701.13.1000, 1701.13.5000, 1701.14.1020, 1701.14.1040, 1701.14.5000, 1701.91.1000, 1701.91.3000, 1701.99.1015, 1701.99.1017, 1701.99.1025, 1701.99.1050, 1701.99.5015, 1701.99.5017, 1701.99.5025, 1701.99.5050, and 1702.90.4000.⁹ The tariff classification is provided for convenience and customs purposes; however, the written description of the scope of this AD Agreement is dispositive.

⁹ Prior to July 1, 2016, merchandise covered by the AD Agreement was classified in the HTSUS under subheading 1701.99.1010. Prior to January 1, 2020, merchandise covered by the AD Agreement was classified in the HTSUS under subheadings 1701.14.1000 and 1701.99.5010.

A full description of the scope of the AD Agreement is contained in the Issues and Decision Memorandum.¹⁰

¹⁰ See Memorandum, “Issues and Decision Memorandum for the Final Results of the 2022-2023 Administrative Review of the Agreement Suspending the Antidumping Duty Investigation on Sugar from Mexico,” dated concurrently with, and hereby adopted by, this notice (Issues and Decision Memorandum).

Analysis

Commerce continues to determine that, based on record evidence, the respondents were generally in compliance with the AD Agreement and that the AD Agreement met the statutory requirements under sections 734(c) and (d) of the Act during the POR. However, we continue to determine that Grupo BSM did not comply with the requirement to eliminate at least 85 percent of the dumping found in the investigation for both Refined and Other Sugar sales during the POR. Furthermore, we continue to consider Grupo BSM's noncompliant behavior to be serious and in need of remediation for its Other Sugar sales.

We intend to address what we have found to be serious noncompliance by Grupo BSM with an “action plan” first outlined in the Preliminary Results, with the exception of verification of Grupo BSM's questionnaire responses which has been completed. Commerce's next steps will include: formal consultations with the Signatories to the AD Agreement under Section VII.E.2 (Operations Consultations); additional monitoring of Grupo BSM; and consideration of the selection of Grupo BSM in a future administrative review. These measures are necessary to ensure compliance with the AD Agreement and that any potential administrative challenges to effective monitoring are diminished.

The issues raised in the case and rebuttal briefs are addressed in the accompanying Issues and Decision Memorandum and business proprietary memorandum.¹¹ The issues are identified in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

¹¹ Id.; see also Memorandum, “Proprietary Analysis Memorandum for the Final Results: Santa Rosalia de la Chontalpa, S.A. de C.V., and its Affiliates,” dated concurrently with, and hereby adopted by, this notice.

Notification Regarding Administrative Protective Order (APO)

This notice also serves as a reminder to parties subject to APO of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results of review in accordance with sections 751(a)(l) and 777(i)(l) of the Act, and 19 CFR 351.213 and 19 CFR 351.221(b)(5).

Dated: December 15, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Agreement

IV. Discussion of the Issues

1. Whether Commerce Should Exclude Certain Sales of Refined Sugar from Its Normal Value Calculation

2. Whether Commerce Should Use Net Realizable Value to Calculate the Cost of Sugar Cane

3. Whether Commerce Should Continue to Include Certain Sales in the Calculation of Normal Value

4. Commerce's Intent to Hold Consultations Regarding Parties' Obligations under the AD Agreement

V. Recommendation

[FR Doc. 2025-23327 Filed 12-18-25; 8:45 am]

BILLING CODE 3510-DS-P